RAILROAD RETIREMENT BOARD

Proposed Collection; Comment Request

Summary: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Railroad Service and Compensation Reports/System Access Application; OMB 3220-0008.

Under Section 9 of the Railroad Retirement Act (RRA) and Section 6 of the Railroad Unemployment Insurance Act (RUIA) the Railroad Retirement Board (RRB) maintains for each railroad employee, a record of compensation paid to that employee by all railroad employers for whom the employee worked after 1936. This record, which is used by the RRB to determine eligibility for, and amount of, benefits due under the laws it administers, is conclusive as to the amount of compensation paid to an employee during such period(s) covered by the report(s) of the compensation by the employee's railroad employer(s), except in cases when an employee files a protest pertaining to his or her reported compensation within the statute of limitations cited in Section 9 of the RRA and Section 6 of the RUIA.

To enable the RRB to establish and maintain the record of compensation, employers are required to file with the RRB, reports of their employees' compensation, in such manner and form and at such times as the RRB prescribes. Railroad employers' reports and responsibilities are prescribed in 20 CFR 209. The RRB currently utilizes Form BA-3, Annual Report of Creditable Compensation, and Form BA-4, Report of Creditable Compensation Adjustments, to secure the required information from railroad employers. Form BA-3 provides the RRB with information regarding annual creditable service and compensation for each individual who worked for a railroad employer covered by the RRA and RUIA in a given year. Form BA-4 provides for the adjustment of any previously submitted reports and also the opportunity to provide any service and compensation that had been previously omitted. Requirements specific to Forms BA-3 and BA-4 are prescribed in 20 CFR 209.8 and 209.9.

Employers currently have the option of submitting BA-3 and BA-4 reports electronically by CD-ROM, File Transfer Protocol (FTP), secure Email, or online via the RRB's Employer Reporting System (ERS).

The information collection also includes RRB Form BA-12, Application for Employer Reporting Internet Access, and Form G-440, Report Specifications Sheet. Form BA-12 is completed by railroad employers to obtain system access to ERS. Once access is obtained, authorized employees may submit reporting forms online to the RRB. The form determines what degree of access (view/only, data entry/modification or approval/submission) is appropriate for that employee. It is also used to terminate an employee's access to ERS. Form G-440, Report Specifications Sheet, serves as a certification document for various RRB employer reporting forms (Forms BA-3, BA-4, Form BA-6a, BA-6, Address Report (OMB 3220-0005), BA-9, Report of Separation Allowance or Severance Pay (OMB 3220-0173) and BA-11, Report of Gross Earnings (OMB 3220-0132)). It records the type of medium the report was submitted on, and serves as a summary recapitulation sheet for reports filed on paper. The RRB proposes minor non-burden impacting changes to Form BA-12 and G-440.

Estimate of Annual Respondent Burden
Reporting | Responses | Time (minutes) | Burden (hours)
BA-3:
Paper | 24 | 116.85 (7,011 min) | 2,804
Electronic Media | 96 | 46.25 (2,775 min) | 4,440
BA-3 (Internet) | 593 | 46.25 (2,775 min) | 27,426
Total BA-3 | 713 |  | 34,670
BA-4:
Paper | 160 | 1.25 (75 min) | 200
Electronic Media | 285 | 1.00 (60 min) | 285
BA-4 (Internet) | 3,852 | .33 (20 min) | 1,284
Total BA-4 | 4,297 |  | 1,769
BA-12:
Initial Access | 295 | .33 (20 min) | 98
Access Termination | 38 | .166 (10 min) | 6
Total BA-12 | 333 |  | 105
G-440 (Certification):
Form BA-3 (zero employees) | 19 | .25 (15 min) | 5
Form BA-11 (zero employees) | 60 | .25 (15 min) | 15
Paper forms (without recap) | 7 | .25 (15 min) | 2
Electronic transactions | 94 | .50 (30 min) | 47
BA-3 and BA-4 (with recap) | 125 | 1.25 (75 min) | 156
Total G-440 | 305 |  | 224
Grand Total | 5,648 |  | 36,768

2. Title and purpose of information collection: Medical Reports; OMB 3220-0038.

Under sections 2(a)(1)(iv) and 2(a)(1)(v) of the Railroad Retirement Act (RRA), annuities are payable to qualified railroad employees whose physical or mental condition makes them unable to (1) work in their regular occupation (occupational disability) or (2) work at all (permanent total disability). The requirements for establishing disability and proof of continuing disability under the RRA are prescribed in 20 CFR 220.

Under Sections 2(c)(1)(ii)(C) and 2(d)(1)(ii) of the RRA, annuities are also payable to qualified spouses and widow(ers), respectively, who have a qualifying child who became disabled before age 22. Annuities are also payable to surviving children on the basis of disability under section 2(d)(1)(iii)(C) if the child's disability began before age 22 as well as to widow(er)s on the basis of disability under section 2(d)(1)(i)(B). To meet the disability standard, the RRA provides that individuals must have a permanent physical or mental condition that makes them unable to engage in any regular employment.

Under section 2(d)(1)(v) of the RRA, annuities are also payable to remarried widow(er)s and surviving divorced spouses on the basis of, among other things, disability or having a qualifying disabled child in care. However, the disability standard in these cases is that found in the Social Security Act. That is, individuals must be unable to engage in any substantial gainful activity by reason of any medically determinable physical or mental impairment. The RRB also determines entitlement to a Period of Disability and entitlement to early Medicare based on disability for qualified claimants in accordance with Section 216 of the Social Security Act.

When making disability determinations, the RRB needs evidence from acceptable medical sources. The RRB currently utilizes Forms G-3EMP, Report of Medical Condition by Employer; G-197, Authorization to Release Medical Information to the Railroad Retirement Board; G-250, Medical Assessment; G-250A, Medical Assessment of Residual Functional Capacity; G-260, Report of Seizure Disorder; RL-11B, Disclosure of Hospital Medical Records; RL-11D, Disclosure of Medical Records from a State Agency; and RL-250, Request for Medical Assessment, to obtain the necessary medical evidence. One response is requested of each respondent. Completion is voluntary.

The RRB proposes to add a fraud statement; request a doctor's National Provider Number; and make other minor non-burden impacting editorial and cosmetic changes to Forms G-250, G-250A, and G-260. The RRB also proposes to revise Form G-197 to include authorization to disclose educational records from various sources, as well as make other minor non-burden impacting editorial changes.

Estimate of Annual Respondent Burden
Form No. | Annual responses | Time (minutes) | Burden (hours)
G-3EMP | 600 | 10 | 100
G-197 | 6,000 | 10 | 1,000
G-250 | 11,950 | 30 | 5,975
G-250A | 50 | 20 | 17
G-260 | 100 | 25 | 42
RL-11B | 5,000 | 10 | 833
RL-11D | 250 | 10 | 42
RL-250 | 11,950 | 10 | 1,992
Total | 35,900 |  | 10,001

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2014-25312 Filed 10-23-14; 8:45 am]

BILLING CODE 7905-01-P